DEPARTMENT OF ENERGY

Federal Energy Regulatory Commission

Combined Notice of Filings #1

Take notice that the Commission received the following electric corporate filings:

Docket Numbers: EC12-125-000.

Applicants: Dynegy Inc., Franklin Resources, Inc.

Description: Joint Application For Approval Under Section 203 of the Federal Power Act and Request for Expedited Consideration of Dynegy Inc., et al.

Filed Date: 7/25/12.

Accession Number: 20120725-5136.

Comments Due: 5 p.m. ET 8/15/12.

Take notice that the Commission received the following electric rate filings:

Docket Numbers: ER11-2780-005.

Applicants: Safe Harbor Water Power Corporation.

Description: Notice of Change in Status of Safe Harbor Water Power Corporation.

Filed Date: 7/25/12.

Accession Number: 20120725-5128.

Comments Due: 5 p.m. ET 8/15/12.

Docket Numbers: ER11-2853-001.

Applicants: Public Service Company of Colorado.

Description: 07252012_PSCo Production Formula Compliance Filing to be effective 9/1/2011.

Filed Date: 7/25/12.

Accession Number: 20120725-5038.

Comments Due: 5 p.m. ET 8/15/12.

Docket Numbers: ER11-4304-002.

Applicants: Golden Spread Electric Cooperative, Inc.

Description: Golden Spread Electric Cooperative, Inc. submits tariff filing per 35: Compliance Filing to April 24 Order to be effective 7/25/2012.

Filed Date: 7/25/12.

Accession Number: 20120725-5103.

Comments Due: 5 p.m. ET 8/15/12.

Docket Numbers: ER12-2302-000.

Applicants: Midwest Independent Transmission System Operator, Inc.

Description: Midwest Independent Transmission System Operator, Inc. submits tariff filing per 35.13(a)(2)(iii): 7-25-12 SSR Tariff Filing to be effective 9/24/2012.

Filed Date: 7/25/12.

Accession Number: 20120725-5108.

Comments Due: 5 p.m. ET 8/15/12.

Docket Numbers: ER12-2303-000.

Applicants: New York Independent System Operator, Inc.

Description: New York Independent System Operator, Inc. submits tariff filing per 35.13(a)(2)(iii): NYISO Tariff Revisions to Improve Clarity and Consistency of OATT Attachment Y to be effective 9/24/2012.

Filed Date: 7/25/12.

Accession Number: 20120725-5109.

Comments Due: 5 p.m. ET 8/15/12.

Docket Numbers: ER12-2304-000.

Applicants: ISO New England Inc., Green Mountain Power Corporation, Central Vermont Public Service Corporation.

Description: ISO New England Inc. submits tariff filing per 35.13(a)(2)(iii) GMP and CVPSC Jt. Trans. Rate and Compliance Filing (EC11-117) to be effective 12/31/9998.

Filed Date: 7/26/12.

Accession Number: 20120726-5001.

Comments Due: 5 p.m. ET 8/16/12.

Docket Numbers: ER12-2305-000.

Applicants: The Detroit Edison Company.

Description: The Detroit Edison Company submits tariff filing per 35.12: FERC Electric Rate Schedule No. 44 to be effective 7/27/2012.

Filed Date: 7/26/12.

Accession Number: 20120726-5017.

Comments Due: 5 p.m. ET 8/16/12.

Take notice that the Commission received the following PURPA 210(m)(3) filings:

Docket Numbers: QM12-5-000.

Applicants: Otter Tail Power Company.

Description: Application to Terminate Mandatory PURPA Purchase Obligation of Otter Tail Power Company.

Filed Date: 7/25/12.

Accession Number: 20120725-5126.

Comments Due: 5 p.m. ET 8/22/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 26, 2012.
Nathaniel J. Davis, Sr.,
Deputy Secretary.

[FR Doc. 2012-18982 Filed 8-2-12; 8:45 am]

BILLING CODE 6717-01-P